DEPARTMENT OF COMMERCE:

National Oceanic and Atmospheric Administration

[RTID 0648-XB280]

Gulf of Mexico Fishery Management Council; Public Meeting; Correction

AGENCY: National Marine Fisheries Service (NMFS), National Oceanic and Atmospheric Administration (NOAA), Commerce.

ACTION: Notice of a correction to a public meeting.

SUMMARY: NMFS, NOAA, published a document in the Federal Register of August 3, 2021, regarding a meeting of the Gulf of Mexico Fishery Management Council (Council). The meeting has since changed to a hybrid meeting offering both in-person and virtual options for attending the meeting.

FOR FURTHER INFORMATION CONTACT: Dr. Carrie Simmons, Executive Director, Gulf of Mexico Fishery Management Council; telephone: (813) 348-1630.

SUPPLEMENTARY INFORMATION:

Correction

In the Federal Register of August 3, 2021, in FR Doc. 2021-16465, on page 41832, in the first column, correct the third full paragraph to read:

The meeting will be a hybrid meeting. You may register for the webinar to listen-in only by visiting www.gulfcouncil.org and click on the Council meeting on the calendar.

On page 41831, under heading Wednesday, August 25, 2021; 8:30 a.m.-5:30 p.m., correct the last paragraph to read:

The Council will hold public testimony from 2:45 p.m. to 5:30 p.m., EDT for Potential Reconsideration of Final Document—Framework Action: Gulf of Mexico Red Snapper Recreational Data Calibration and Recreational Catch Limits, and open testimony on other fishery issues or concerns. Public comment may begin earlier than 2:45 p.m. EDT, but will not conclude before that time. Persons wishing to give public testimony in-person must register at the registration kiosk in the meeting room. Persons wishing to give public testimony virtually must sign up on the Council website on the day of public testimony. Registration for virtual testimony closes one hour (1:45 p.m. EDT) before public testimony begins.

Authority: 16 U.S.C. 1801 et seq.

Dated: August 3, 2021.
Tracey L. Thompson,
Acting Deputy Director, Office of Sustainable Fisheries, National Marine Fisheries Service.

[FR Doc. 2021-16860 Filed 8-10-21; 8:45 am]

BILLING CODE 3510-22-P